DEPARTMENT OF THE INTERIOR

Bureau of Land Management

[AK-0293-02-1310-PB-026L-241A]

National Petroleum Reserve-Alaska Research and Monitoring Advisory Team (RMT) Public Meeting

AGENCY: Northern Field Office, Bureau of Land Management, Interior.

ACTION: Notice of the National Petroleum Reserve—Alaska Research and Monitoring Advisory Team Public Meeting.

SUMMARY: A public meeting of the National Petroleum Reserve—Alaska Research and Monitoring Advisory Team (NPR-A RMT) will be held in Fairbanks, Alaska on September 17, 2002, to discuss research and monitoring needs in NPR-A and to make recommendations to the Authorized Officer on priority projects to be funded by the BLM.

DATES: The public meeting will be held at the BLM Northern Field Office, 1150 University Avenue, Fairbanks, Alaska from 9 a.m. to 4 p.m. on September 17, 2002.

PUBLIC PARTICIPATION: Public comments will be taken during the meeting from 1 p.m. to 1:30 p.m.

FOR FURTHER INFORMATION: Additional information concerning the NPR-A Research and Monitoring Advisory Team may be obtained from Herb Brownell, Arctic Team Manager, BLM Northern Field Office, 1150 University Avenue, Fairbanks, Alaska 99709-3844. Mr. Brownell may be reached at (907) 474-2333 or at 1-800-437-7021, x2333, or by e-mail at Herb_Brownell@ak.blm.gov.

SUPPLEMENTARY INFORMATION: The RMT advises the BLM on NPR-A research and monitoring needs. It also assesses whether existing mitigative stipulations, established in the 1998 Record of Decision for the Northeast NPR-A Integrated Activity Plan/Environmental Impact Statement, are effective and appropriate. The Team develops and recommends research priorities, and it applies improved technology and operating practices to oil and gas exploration and possible development in NPR-A. The RMT's membership, appointed by the Secretary of the Interior, consists of representatives from the public at large, environmental and conservation groups, the oil and gas industry, the academic research community, and governmental agencies. In addition to the BLM, agencies with representatives on the RMT include the U.S. Geological Survey—Biological Resources Division, Minerals Management Service, Department of Energy, U.S. Fish and Wildlife Service, and the North Slope Borough.

Dated: June 13, 2002.
Robert W. Schneider,
Field Manager.

[FR Doc. 02-18878 Filed 7-25-02; 8:45 am]

BILLING CODE 4310-JA-P